DEPARTMENT OF HEALTH AND HUMAN SERVICES

Centers for Medicare & Medicaid Services

[Document Identifier: CMS-10321]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Revision of a currently approved collection; Title of Information Collection: Early Retiree Reinsurance Program (ERRP); Use: Under section 1102 of the Affordable Care Act and implementing regulations at 45 CFR part 149, employment-based plans that offer health benefits to early retirees and their spouses, surviving spouses and dependents are eligible under a temporary program to receive a tax-free reimbursement for the costs of certain health benefits for such individuals (the Early Retiree Reinsurance Program, or ERRP). In order to qualify, plan sponsors must submit a complete application to the U.S. Department of Health & Human Services (HHS). In order to receive reimbursement under the program, they must also submit documentation of actual costs for health care benefits, which consists of documentation of actual costs for the items and services involved, and a list of individuals to whom the documentation applies. Once HHS reviews and analyzes the information on the application, notification will be sent to the plan sponsor about its eligibility to participate in the program. Once HHS reviews and analyzes each reimbursement request, reimbursement under the program will be made to the sponsor, as appropriate. The program's funding is limited to $5 billion, and the program sunsets on January 1, 2014.

As compared with the burden estimates OMB approved on December 22, 2010, for OMB #0938-1087. There is a nominal change to burden of 1 hour, to account for the fact that sponsors have an obligation to update any incorrect or outdated information in their applications. Beyond that, there is no change to burden. The burden hours associated with reading the guidance materials related to disclosing data inaccuracies that are being included with this revised PRA submission, and with completing the Prima Facie Evidence Cover Sheet that is being included with this revised PRA submission, were already accounted for in the PRA package OMB approved on December 22, 2010. Specially, the burden associated with completing the Prima Facie Evidence cover sheet, was included in the burden estimate for submitting a reimbursement request. The burden associated with reading the guidance paper on reporting data inaccuracies was already included in the burden estimate for disclosing data inaccuracies. Form Number: CMS-10321 (OCN: 0938-1087); Frequency: Occasionally; Affected Public: Private Sector: Business or other for-profits and Not-for-profit institutions: State, Local, or Tribal Governments; Number of Respondents: 13,200; Number of Responses; 71,330; Total Annual Hours: 1,927,575. (For policy questions regarding this collection, contact Dave Mlawsky at (410) 786-6851. For all other issues call (410) 786-1326.)

To obtain copies of the supporting statement and any related forms for the proposed paperwork collections referenced above, access CMS Web site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received by the OMB desk officer at the address below, no later than 5 p.m. on July 28, 2011.

OMB, Office of Information and Regulatory Affairs, Attention: CMS Desk Officer, Fax Number: (202) 395-6974, E-mail: OIRA_submission@omb.eop.gov.

Dated: June 23, 2011.
Michelle Shortt,
Director, Regulations Development Group, Office of Strategic Operations and Regulatory Affairs.

[FR Doc. 2011-16233 Filed 6-24-11; 4:15 pm]

BILLING CODE 4120-01-P